DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Adams (FEMA Docket No.: B-2376). | City of Aurora (22-08-0618P). | The Honorable Mike Coffman, Mayor, City of Aurora, 15151 East Alameda Parkway, Aurora, CO 80012. | Public Works Department, 15151 East Alameda Parkway, Suite 3200, Aurora, CO 80012. | Nov. 24, 2023 | 080002
Adams (FEMA Docket No.: B-2376). | Unincorporated areas of Adams County (22-08-0618P). | Steve O'Dorisio, Chair, Adams County Board of Commissioners, 4430 South Adams County Parkway, Brighton, CO 80601. | Adams County Community and Economic Development Department, 4430 South Adams County Parkway, Brighton, CO 80601. | Nov. 24, 2023 | 080001
Jefferson (FEMA Docket No.: B-2376). | City of Golden (22-08-0756P). | The Honorable Laura Weinberg, Mayor, City of Golden, 911 10th Street, Golden, CO 80401. | Public Works Department, 1445 10th Street, Golden, CO 80401. | Nov. 24, 2023 | 080090
Jefferson (FEMA Docket No.: B-2376). | Unincorporated areas of Jefferson County (22-08-0610P). | Andy Kerr, Chair, Jefferson County Board of Commissioners, 100 Jefferson County Parkway, Suite 5550, Golden, CO 80419. | Jefferson County Planning and Zoning Division, 100 Jefferson County Parkway, Suite 3550, Golden, CO 80419. | Dec. 1, 2023 | 080087
Jefferson (FEMA Docket No.: B-2376). | Unincorporated areas of Jefferson County (22-08-0756P). | Andy Kerr, Chair, Jefferson County Board of Commissioners, 100 Jefferson County Parkway, Suite 5550, Golden, CO 80419. | Jefferson County Planning and Zoning Division, 100 Jefferson County Parkway, Suite 3550, Golden, CO 80419. | Nov. 24, 2023 | 080087
Connecticut:
Hartford (FEMA Docket No.: B-2376). | City of New Britain (22-01-1075P). | The Honorable Erin E. Stewart, Mayor, City of New Britain, 27 West Main Street, New Britain, CT 06051. | Public Works Department, 27 West Main Street, Room 501, New Britain, CT 06051. | Dec. 4, 2023 | 090032
Middlesex (FEMA Docket No.: B-2372). | Town of Old Saybrook, (22-01-0701P). | Carl P. Fortuna, Jr., First Selectman, Town of Old Saybrook Board of Selectmen, 302 Main Street, Old Saybrook, CT 06475. | Town Hall, 302 Main Street, Old Saybrook, CT 06475. | Nov 17, 2023 | 090069
Florida:
Brevard (FEMA Docket No.: B-2368). | Town of Grant-Valkaria (23-04-1676P). | Honorable Del Yonts, Mayor, Town of Grant-Valkaria, 1449 Valkaria Road, Grant-Valkaria, FL 32950. | Town Hall, 1449 Valkaria Road, Grant-Valkaria, FL 32950. | Nov. 15, 2023 | 120224
Broward (FEMA Docket No.: B-2376). | City of Deerfield Beach (23-04-4228P). | The Honorable Bill Ganz, Mayor, City of Deerfield Beach, 150 Northeast 2nd Avenue, Deerfield Beach, FL 33441. | Environmental Services Department, 200 Goolsby Boulevard, Deerfield Beach, FL 33442. | Nov. 30, 2023 | 125101
Lee (FEMA Docket No.: B-2376). | City of Bonita Springs (23-04-1949P). | The Honorable Rick Steinmeyer, Mayor, City of Bonita Springs, 9101 Bonita Beach Road, Bonita Springs, FL 34135. | Community Development Department, 9220 Bonita Beach Road, Suite 111, Bonita Springs, FL 34135. | Nov. 24, 2023 | 120680
Marion (FEMA Docket No.: B-2368). | Unincorporated areas of Marion County (22-04-5182P). | Craig Curry, Chair, Marion County Board of Commissioners, 601 Southeast 25th Avenue, Ocala, FL 34471. | Marion County Administration, 601 Southeast 25th Avenue, Ocala, FL 34471. | Nov. 17, 2023 | 120160
Monroe (FEMA Docket No.: B-2376). | Village of Islamorada (23-04-4107P). | The Honorable Joseph Buddy Pinder III, Mayor, Village of Islamorada, 86800 Overseas Highway, Islamorada, FL 33036. | Building Department, 86800 Overseas Highway, Islamorada, FL 33036. | Dec. 1, 2023 | 120424
Monroe (FEMA Docket No.: B-2376). | Village of Islamorada (23-04-4211P). | The Honorable Joseph Buddy Pinder III, Mayor, Village of Islamorada, 86800 Overseas Highway, Islamorada, FL 33036. | Building Department, 86800 Overseas Highway, Islamorada, FL 33036. | Dec. 11, 2023 | 120424
Palm Beach (FEMA Docket No.: B-2376). | City of West Palm Beach (22-04-5604P). | The Honorable Keith James, Mayor, City of West Palm Beach, P.O. Box 3366, West Palm Beach, FL 33402. | Building Department, 401 Clematis Street, West Palm Beach, FL 33401. | Nov. 24, 2023 | 120229
Palm Beach (FEMA Docket No.: B-2382). | Unincorporated areas of Palm Beach County (22-04-4645P). | Verdenia Baker, Palm Beach County Administrator, 301 North Olive Avenue, 11th Floor, West Palm Beach, FL 33401. | Palm Beach County Building Division, Planning, Zoning and Building Department, Vista Center, 1st Floor, Room 1E-17, 2300 North Jog Road, West Palm Beach, FL 33411. | Dec. 11, 2023 | 120192
Georgia:
Bulloch (FEMA Docket No.: B-2368). | City of Statesboro (23-04-2242P). | The Honorable Jonathan M. McCollar, Mayor, City of Statesboro, 50 East Main Street, Statesboro, GA 30458. | City Hall, 50 East Main Street, Statesboro, GA 30458. | Nov. 17, 2023 | 130021
Cobb (FEMA Docket No.: B-2382). | City of Kennesaw (23-04-1243P). | The Honorable Derek Easterling, Mayor, City of Kennesaw, 2529 J.O. Stephenson Avenue, Kennesaw, GA 30144. | City Hall, 2529 J.O. Stephenson Avenue, Kennesaw, GA 30144. | Dec. 11, 2023 | 130055
Louisiana: Tangipahoa (FEMA Docket No.: B-2376). | Unincorporated areas of Tangipahoa Parish (23-06-0213P). | Robby Miller, Tangipahoa Parish President, P.O. Box 215, Amite City, LA 70422. | Tangipahoa Parish Government Building, 206 East Mulberry Street, Amite City, LA 70422. | Nov. 24, 2023 | 220206
Maryland: Baltimore (FEMA Docket No.: B-2368). | Unincorporated areas of Baltimore County (23-03-0139P). | John A. Olszewski, Jr., Baltimore County Executive, 400 Washington Avenue, Towson, MD 21204. | Baltimore County Department of Public Works and Transportation, 111 West Chesapeake Avenue, Room 205, Towson, MD 21204. | Nov. 16, 2023 | 240010
Nevada: Clark (FEMA Docket No.: B-2372). | City of Henderson (23-09-0205P). | Richard Derrick, Manager, City of Henderson, 240 South Water Street, Henderson, NV 89015. | City Hall, 240 South Water Street, Henderson, NV 89015. | Nov. 22, 2023 | 320005
North Carolina: Cabarrus (FEMA Docket No.: B-2368). | Town of Harrisburg (23-04-1302P). | The Honorable Jennifer Teague, Mayor, Town of Harrisburg, P.O. Box 100, Harrisburg, NC 28075. | Planning and Economic Development Department, 4100 Main Street, Suite 102, Harrisburg, NC 28075. | Dec. 11, 2023 | 370038
Oklahoma: Oklahoma (FEMA Docket No.: B-2382). | City of Oklahoma City (23-06-0313P). | The Honorable David Holt, Mayor, City of Oklahoma City, 200 North Walker Avenue, 3rd Floor, Oklahoma City, OK 73102. | Public Works Department, 420 West Main Street, Suite 700, Oklahoma City, OK 73102. | Dec. 8, 2023 | 405378
Tennessee: Sumner (FEMA Docket No.: B-2372). | Unincorporated areas of Sumner County (23-04-0309P). | The Honorable John C. Isbell, Mayor, Sumner County, 355 North Belvedere Drive, Room 102, Gallatin, TN 37066. | Sumner County Administration Building, 355 North Belvedere Drive, Gallatin, TN 37066. | Nov. 24, 2023 | 470349
Texas:
Atascosa (FEMA Docket No.: B-2382). | City of Pleasanton (23-06-0894P). | The Honorable Clinton J. Powell, Mayor, City of Pleasanton, P.O. Box 209, Pleasanton, TX 78064. | Engineering Department, 108 2nd Street, Pleasanton, TX 78064. | Dec. 7, 2023 | 480015
Brazos (FEMA Docket No.: B-2382). | City of Bryan (22-06-2814P). | The Honorable Bobby Gutierrez, Mayor, City of Bryan, P.O. Box 1000, Bryan, TX 77805. | City Hall, 300 South Texas Avenue, Bryan, TX 77803. | Dec. 6, 2023 | 480082
Dallas (FEMA Docket No.: B-2376). | City of Garland (22-06-0934P). | The Honorable Scott LeMay, Mayor, City of Garland, 200 North 5th Street, Garland, TX 75040. | Engineering Department, 800 Main Street, 3rd Floor, Garland, TX 75040. | Dec. 4, 2023 | 485471
Denton (FEMA Docket No.: B-2376). | Unincorporated areas of Denton County (23-06-0647P). | The Honorable Andy Eads, Denton County Judge, 1 Courthouse Drive, Suite 3100, Denton, TX 76208. | Denton County Hall, 1 Courthouse Drive, Denton, TX 76208. | Nov. 17, 2023 | 480774
Grayson (FEMA Docket No.: B-2376). | City of Tioga (23-06-0305P). | The Honorable Craig Jezek, Mayor, City of Tioga, P.O. Box 206, Tioga, TX 76271. | City Hall, 600 Main Street, Tioga, TX 76271. | Jan. 16, 2024 | 481624
Guadalupe (FEMA Docket No.: B-2368). | Unincorporated areas of Guadalupe County (23-06-0348P). | The Honorable Kyle Kutscher, Guadalupe County Judge, 101 East Court Street, Seguin, TX 78155. | Guadalupe County Main Office, 211 West Court Street, Seguin, TX 78155. | Nov. 24, 2023 | 480266
Harris (FEMA Docket No.: B-2376). | Unincorporated areas of Harris County (22-06-2777P). | The Honorable Lina Hidalgo, Harris County Judge, 1001 Preston Street, Suite 911, Houston, TX 77002. | Harris County Engineering Department, 1001 Preston Street, 7th Floor, Houston, TX 77002. | Nov. 20, 2023 | 480287
Rockwall (FEMA Docket No.: B-2372). | City of Rockwall (23-06-0308P). | The Honorable Trace Johannesen, Mayor, City of Rockwall, 385 South Goliad Street, Rockwall, TX 75087. | City Hall, 385 South Goliad Street, Rockwall, TX 75087. | Dec. 4, 2023 | 480547
Tarrant (FEMA Docket No.: B-2372). | City of Arlington (23-06-0467P). | The Honorable Jim Ross, Mayor, City of Arlington, P.O. Box 90231, Arlington, TX 76004. | City Hall, 101 West Abram Street, Arlington, TX 76010. | Nov. 16, 2023 | 485454
Tarrant (FEMA Docket No.: B-2376). | City of Fort Worth (23-06-0280P). | The Honorable Mattie Parker, Mayor, City of Fort Worth, 200 Texas Street, Fort Worth, TX 76102. | Department of Transportation and Public Works, Engineering Vault and Map Repository, 200 Texas Street, Fort Worth, TX 76102. | Dec. 1, 2023 | 480596
Tarrant (FEMA Docket No.: B-2382). | City of Fort Worth (23-06-0331P). | The Honorable Mattie Parker, Mayor, City of Fort Worth, 200 Texas Street, Fort Worth, TX 76102. | Department of Transportation and Public Works, Engineering Vault and Map Repository, 200 Texas Street, Fort Worth, TX 76102. | Dec. 11, 2023 | 480596
Tarrant (FEMA Docket No.: B-2372). | City of Fort Worth (23-06-0655P). | The Honorable Mattie Parker, Mayor, City of Fort Worth, 200 Texas Street, Fort Worth, TX 76102. | Department of Transportation and Public Works, Engineering Vault and Map Repository, 200 Texas Street, Fort Worth, TX 76102. | Nov. 17, 2023 | 480596
Tarrant (FEMA Docket No.: B-2382). | Unincorporated areas of Tarrant County (23-06-0331P). | The Honorable Tim O'Hare, Tarrant County Judge, 100 East Weatherford Street, Suite 501, Fort Worth, TX 76196. | Tarrant County Administration Building, 100 East Weatherford Street, Suite 501, Fort Worth, TX 76196. | Dec. 11, 2023 | 480582
Travis (FEMA Docket No.: B-2372). | Unincorporated areas of Travis County (23-06-0466P). | The Honorable Andy Brown, Travis County Judge, P.O. Box 1748, Austin, TX 78767. | Travis County Transportation and Natural Resources Department, 700 Lavaca Street, 5th Floor, Austin, TX 78701. | Dec. 11, 2023 | 481026
Waller (FEMA Docket No.: B-2376). | Unincorporated areas of Waller County (22-06-2777P). | The Honorable Carbett “Trey” J. Duhon, III, Waller County Judge, 836 Austin Street, Suite 203, Hempstead, TX 77445. | Waller County Engineering Department, 775 Business Highway 290 East, Hempstead, TX 77445. | Nov. 20, 2023 | 480640
Wilson (FEMA Docket No.: B-2372). | Unincorporated areas of Wilson County (22-06-3006P). | The Honorable Henry L. Whitman, Jr., Wilson County Judge, 1420 3rd Street, Suite 101, Floresville, TX 78114. | Wilson County Courthouse, 1420 3rd Street, Suite 101, Floresville, TX 78114. | Nov. 30, 2023 | 480230
Wise (FEMA Docket No.: B-2368). | City of New Fairview (23-06-0394P). | The Honorable John R. Taylor, Mayor, City of New Fairview, 999 Illinois Lane, New Fairview, TX 76078. | Public Works Department, 999 Illinois Lane, New Fairview, TX 76078. | Nov. 24, 2023 | 481629
Wise (FEMA Docket No.: B-2368). | Unincorporated areas of Wise County (23-06-0394P). | The Honorable J.D. Clark, Wise County Judge, 101 North Trinity Street, Decatur, TX 76234. | Wise County Public Works Department, 2901 South F.M. 51, Building 100, Decatur, TX 76234. | Nov. 24, 2023 | 481051
Utah:
Davis (FEMA Docket No.: B-2376). | City of Farmington (23-08-0529P). | The Honorable Brett Anderson, Mayor, City of Farmington, 160 South Main Street, Farmington, UT 84025. | City Hall, 160 South Main Street, Farmington, UT 84025. | Nov. 20, 2023 | 490044
Salt Lake (FEMA Docket No.: B-2376). | City of Herriman City (22-08-0795P). | Nathan Cherpeski, Manager, City of Herriman City, 5355 West Herriman Main Street, Herriman, UT 84096. | City Maps (GIS) Department, 5355 West Herriman Main Street, Herriman, UT 84096. | Nov. 24, 2023 | 490252
Washington (FEMA Docket No.: B-2376). | Town of Virgin (23-08-0208P). | The Honorable Jean Krause, Mayor, Town of Virgin, P.O. Box 790008, Virgin, UT 84779. | Planning and Zoning Department, 114 South Mill Street, Virgin, UT 84779. | Nov. 30, 2023 | 490181
Vermont: Chittenden (FEMA Docket No.: B-2376). | Town of Essex (23-01-0198P). | Greg Duggan, Town of Essex Manager, 81 Main Street, Essex Junction, VT 05452. | Town Clerk's Office (Land Records), 81 Main Street, Essex Junction, VT 05452. | Nov. 24, 2023 | 500034
Virginia: Independent City (FEMA Docket No.: B-2368). | City of Newport News (22-03-1173P). | Cynthia D. Rohlf, Manager, City of Newport News, 2400 Washington Avenue, Newport News, VA 23607. | Department of Information Technology, 2400 Washington Avenue, Newport News, VA 23607. | Nov. 14, 2023 | 510103
West Virginia: Hardy (FEMA Docket No.: B-2368). | Unincorporated areas of Hardy County (23-03-0533P). | David J. Workman, President, Hardy County Commission, 204 Washington Street, Room 111, Moorefield, WV 26836. | Hardy County Courthouse, 204 Washington Street, Moorefield, WV 26836. | Nov. 16, 2023 | 540051

[FR Doc. 2024-00065 Filed 1-4-24; 8:45 am]

BILLING CODE 9110-12-P